DEPARTMENT OF ENERGY

Environmental Management Site-Specific Advisory Board, Savannah River

AGENCY: Department of Energy.

ACTION: Notice of open meeting.

SUMMARY: This notice announces a meeting of the Environmental Management Site-Specific Advisory Board (EM SSAB), Savannah River. The Federal Advisory Committee Act (Pub. L. No. 92-463, 86 Stat. 770) requires that public notice of these meetings be announced in the Federal Register.

DATES: Monday, November 15, 2004 1 p.m.-5:15 p.m. Tuesday, November 16, 2004 8:30 a.m.-4 p.m.

ADDRESSES: Augusta Towers Hotel & Conference Center, 2651 Perimeter Parkway, Augusta, GA 30909.

FOR FURTHER INFORMATION CONTACT: Gerri Flemming, Closure Project Office, Department of Energy Savannah River Operations Office, P.O. Box A, Aiken, SC 29802; Phone: (803) 952-7886.

SUPPLEMENTARY INFORMATION: Purpose of the Board: The purpose of the Board is to make recommendations to DOE in the areas of environmental restoration, waste management, and related activities.

Tentative Agenda

Monday, November 15, 2004

1 p.m.—Combined Committee Session

5:15 p.m.—Executive Committee Meeting

6 p.m.—Adjourn

Tuesday, November 16, 2004

8:30 a.m.—Approval of Minutes; Agency Updates

8:45 a.m.—Public Comment Session

9 a.m.—Chair and Facilitator Update

9:30 a.m.—Waste Management Committee Report

11 a.m.—Waste Management/Nuclear Materials Committee Report

11:45 a.m.—Public Comments

12 p.m.—Lunch Break

1 p.m.—Administrative Committee Report

1:45 p.m.—Bylaws Amendment Proposal; Vice-chair Election; Presentation of Candidates

2 p.m.—Facility Disposition and Site Remediation Committee Report

3 p.m.—Nuclear Materials Committee Report

3:40 p.m.—Strategic & Legacy Management Committee Report

3:50 p.m.—Public Comments

4 p.m.—Adjourn

Public Participation: The meeting is open to the public. Written statements may be filed with the Board either before or after the meeting. Individuals who wish to make the oral statements pertaining to agenda items should contact Gerri Flemming's office at the address or telephone listed above. Requests must be received five days prior to the meeting and reasonable provision will be made to include the presentation in the agenda. The Designated Federal Officer is empowered to conduct the meeting in a fashion that will facilitate the orderly conduct of business. Each individual wishing to make public comment will be provided equal time to present their comments.

Minutes: The minutes of this meeting will be available for public review and copying at the Freedom of Information Public Reading Room, 1E-190, Forrestal Building, 1000 Independence Avenue, SW., Washington, DC 20585 between 9 a.m. and 4 p.m., Monday through Friday, except Federal holidays. Minutes will also be available by writing to Gerri Flemming, Department of Energy, Savannah River Operations Office, P.O. Box A, Aiken, SC 29802, or by calling her at (803) 952-7886.

Issued at Washington, DC on October 19, 2004.
Rachel M. Samuel,
Deputy Advisory Committee Management Officer.

[FR Doc. 04-23677 Filed 10-21-04; 8:45 am]

BILLING CODE 6450-01-P